DEPARTMENT OF THE INTERIOR

National Indian Gaming Commission

25 CFR Part 547

RIN 3141-AA29

Technical Standards for “Electronic, Computer, or Other Technologic Aids” Used in the Play of Class II Games

AGENCY: National Indian Gaming Commission, Interior.

ACTION: Notice of extension of comment period.

SUMMARY: This notice extends the period for comments on proposed Class II technical standards published in the Federal Register on August 11, 2006 (71 FR 46336).

DATES: The comment period for the proposed technical regulations is extended from December 15, 2006, to January 31, 2007.

FOR FURTHER INFORMATION CONTACT: Michael Gross, Senior Attorney, at 202/632-7003; fax 202/632-7066 (these are not toll-free numbers).

SUPPLEMENTARY INFORMATION: Congress established the National Indian Gaming Commission (NIGC or Commission) under the Indian Gaming Regulatory Act of 1988 (25 U.S.C. 2701 et seq.) (IGRA) to regulate gaming on Indian lands. On August 11, 2006, the Commission published proposed Class II technical standards in the Federal Register (71 FR 46336).

Dated: December 14, 2006.
Philip N. Hogen,
Chairman, National Indian Gaming Commission.
Cloyce V. Choney,
Commissioner, National Indian Gaming Commission.

[FR Doc. E6-21784 Filed 12-20-06; 8:45 am]

BILLING CODE 7565-01-P